DEPARTMENT OF DEFENSE

Department of the Navy

[Docket ID: USN-2023-HQ-0010]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by September 15, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Reserve Health of the Force Survey; OMB Control Number: 0703-RHOF.

Type of Request: New.

Number of Respondents: 10,000.

Responses per Respondent: 1.

Annual Responses: 10,000.

Average Burden per Response: 25 minutes.

Annual Burden Hours: 4,167.

Needs and Uses: The Navy Reserve Health of the Force Survey is a strategic level engagement survey of the Navy Reserve population that addresses core measures relating to the health of the force. This survey is being conducted at the request of the Office of the Chief of Navy Reserves to inform reports to the Vice Chief of Naval Operations (VCNO) and Congress. While similar topics are covered in other DOD surveys, this is the only one that directly addresses the full spectrum of topics of interest to senior Navy leaders. All Reserve Component Navy personnel will have the opportunity to participate in the survey. Distribution of the survey will be via an open link that will be emailed by the Navy Reserve Forces Command to all Reservists. Information about the survey will also be shared through command messaging.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 10, 2023.
Aaron T. Siegel,
Alternate OSD Federal Register Liaison Officer, Department of Defense.

[FR Doc. 2023-17544 Filed 8-15-23; 8:45 am]

BILLING CODE 5001-06-P